DEPARTMENT OF HEALTH AND HUMAN SERVICES

Health Resources and Services Administration

Advisory Council; Health Professions and Nurse Education Special Emphasis Panel; Notice of Meeting Cancellation

In Federal Register Document 99-23335 appearing on pages 48844-48846 in the issue for Wednesday, September 8, 1999, the March 6-9, 2000, meeting of the “Public Health Special Projects Review Group” will be cancelled.

Dated: January 20, 2000.
Jane M. Harrison,
Director, Division of Policy Review and Coordination.

[FR Doc. 00-2033 Filed 1-28-00; 8:45 am]

BILLING CODE 4160-15-P